DEPARTMENT OF LABOR

Employment and Training Administration

Notice of Availability of Funds and Funding Opportunity Announcement for H-1B TechHire Partnership Grants

AGENCY: Employment and Training Administration, Labor.

ACTION: Funding Opportunity Announcement (FOA).

Funding Opportunity Number: FOA-ETA-16-01.

SUMMARY: The Employment and Training Administration (ETA), U.S. Department of Labor, announces the availability of approximately $100,000,000 in grant funds for the TechHire partnership grant program. ETA expects to fund approximately 30-40 grants, with individual grant amounts ranging from $2 million to $5 million. This grant program is designed to equip individuals with the skills they need through innovative approaches that can rapidly train workers for and connect them to well-paying, middle- and high-skilled, and high-growth jobs across a diversity of H-1B industries such as IT, healthcare, advanced manufacturing, financial services, and broadband. At least $50 million will be awarded for projects serving youth or young adults with barriers to training and employment opportunities and no more than $50 million will be awarded to projects serving special populations.

The complete FOA and any subsequent FOA amendments in connection with this solicitation are described in further detail on ETA's Web site at http://www.doleta.gov/grants/ or on http://www.grants.gov. The Web sites provide application information, eligibility requirements, review and selection procedures, and other program requirements governing this solicitation.

DATES: The closing date for receipt of applications under this announcement is March 11, 2016. Applications must be received no later than 4:00:00 p.m. Eastern Time.

FOR FURTHER INFORMATION CONTACT: Aiyana Pucci, Grants Management Specialist, Office of Grants Management, at (202) 693-3403. Applicants should email all technical questions to Pucci.Aiyana@dol.gov and reference the Funding Opportunity Number listed in this notice.

The Grant Officer for this FOA is Melissa Abdullah.

Signed November 30, 2015 in Washington, DC.
Eric D. Luetkenhaus,
Grant Officer/Division Chief, Employment and Training Administration.

[FR Doc. 2015-30594 Filed 12-3-15; 8:45 am]

BILLING CODE 4510-FN-P